DEPARTMENT OF THE INTERIOR

Fish and Wildlife Service

[FWS-HQ-ES-2019-N033; FXES11130100000C4-190-FF02ENEH00]

Endangered and Threatened Wildlife and Plants; 28 Draft Recovery Plan Revisions for 53 Species in the Southeast, Mountain-Prairie, and Pacific Southwest Regions of the United States

Correction

In notice document 2019-16749, beginning on page 38284 in the issue of August 6, 2019, make the following correction:

On page 38285, in the table, on the first line, in column six, the URL https://ecos.fws.gov/docs/recovery_plan/Orangenacre%20Mucket%20Recovery%20Plan%20Amendment.pdf should read https://ecos.fws.gov/docs/recovery_plan/Orange-nacre%20Mucket%20Recovery%20Plan%20Amendment.pdf.

[FR Doc. C1-2019-16749 Filed 8-12-19; 8:45 am]

BILLING CODE 1301-00-D